DEPARTMENT OF AGRICULTURE

Forest Service

Southwest Oregon Province Interagency Executive Committee (PIEC) Advisory Committee

AGENCY: Forest Service, USDA.

ACTION: Notice of meeting.

SUMMARY: The Southwest Oregon PIEC Advisory Committee will meet on June 4, 2002 in Prospect, Oregon at the Prospect Ranger District Office at 47201, Hwy. 62. The meeting will begin at 9 a.m. and continue until 5 p.m. Agenda items to be covered include: Provincial Advisory Committee Implementation Monitoring Schedule; Regional Interagency Executive Committee/Interagency Advisory Committee Update; Provincial Advisory Committee Re-Charter Update; Rogue Basin Technical Team Update; Public Comment.

FOR FURTHER INFORMATION CONTACT: Direct questions regarding this meeting to Debra Gray, Province Advisory Committee Staff Member, USDA, Forest Service, Umpqua National Forest, 2900 NW Stewart Parkway, Roseburg, Oregon 97470, phone (541) 957-3405.

Dated: May 9, 2002.
Lyle Burmeister,
Acting Designated Federal Official.

[FR Doc. 02-12083 Filed 5-14-02; 8:45 am]

BILLING CODE 3410-11-M